DEPARTMENT OF DEFENSE

Department of the Navy

Privacy Act of 1974; System of Records

AGENCY: Department of the Navy.

ACTION: Notice to add systems of records; N07220-1 Navy Standard Integrated Personnel System (NSIPS).

SUMMARY: The Department of the Navy proposes to add a system of records to its inventory of record systems subject to the Privacy Act of 1974 (5 U.S.C. 552a), as amended.

DATES: The proposed action will be effective on August 5, 2005, unless comments are received that would result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's notices for systems of records subject to the Privacy Act of 1974 (5 U.S.C. 552a), as amended, have been published in the Federal Register and are available: from the address above.

The proposed systems reports, as required by 5 U.S.C. 552a(r) of the Privacy Act, were submitted on June 27, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996, (February 20, 1996, 61 FR 6427).

Dated: June 29, 2005.
Jeannette Owings-Ballard,
OSD Federal Register Liaison Officer, Department of Defense.

N07220-1

System name:

Navy Standard Integrated Personnel System (NSIPS).

System location:

Primary location: Space and Naval Warfare Systems Center New Orleans (SSC NOLA), 2251 Lakeshore Drive, New Orleans, LA 70145-0001 for records of all active duty and reserve members.

Secondary locations: Personnel Offices and Personnel Support Detachments providing administrative support for the local activity where the individual is assigned. Official mailing addresses are published in the Standard Navy Distribution List available at http://neds.daps.dla.mil/sndl.htm.

Categories of individuals covered by the system:

All Navy military members.

Categories of records in the system:

Name, Social Security Number (SSN), date of birth, education, training and qualifications, professional history, assignments, performance, promotions, leave and pay entitlements and deductions.

Authority for maintenance of the system:

10 U.S.C. 5013, Secretary of the Navy and E.O. 9397 (SSN).

Purpose(s):

The purpose of this system is to provide secure worldwide personnel and pay support for Navy members and their commands. To allow authorized Navy personnel and pay specialists to collect, process, modify, transmit, and store unclassified personnel and pay data. To support management of leave and pay entitlements and deductions so that this information can be provided to the Defense Finance and Accounting Service (DFAS) for payroll processing and preparation of the Leave and Earnings Statements (LES).

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Paper and automated records.

Retrievability:

Records are retrieved by name and Social Security Number (SSN).

Safeguards:

Password controlled system, file, and element access based on predefined need-to-know. Physical access to terminals, terminal rooms, buildings and activities' grounds are controlled by locked terminals and rooms, guards, personnel screening and visitor registers.

Retention and disposal:

Records shall be destroyed when no longer needed.

System manager(s) and address:

Policy Official: NSIPS Program Management Office, 2251 Lakeshore Drive, New Orleans, LA 70145-0001.

Notification procedure:

Individuals seeking to determine whether this system of records contains information about themselves should address written inquiries to the Personnel Office or Personnel Support Detachment providing administrative support for the local activity where they are assigned. Official mailing addresses are published in the Standard Navy Distribution List available at http://neds.daps.dla. mil/sndl.htm.

The request should include full name, Social Security Number, and address of the individual concerned and should be signed.

Record access procedures:

Individuals seeking access to records about themselves contained in this system of records should address written inquiries to the Personnel Office or Personnel Support Detachment providing administrative support for the local activity where they are assigned. Official mailing addresses are published in the Standard Navy Distribution List available at http://neds.daps.dla. mil/sndl.htm.

The request should include full name, Social Security Number, and address of the individual concerned and should be signed.

Contesting record procedures:

The Navy's rules for accessing records, and for contesting contents and appealing initial agency determinations are published in Secretary of the Navy Instruction 5211.5; 32 CFR part 701; or may be obtained from the system manager.

Record source categories:

Enlisted Personnel Management Center; Navy Enlisted System; Navy Manpower and Personnel Distribution System; Navy Personnel Database; Reserve Headquarters System; Navy Training Reservation System; Officer Personnel Information System; Officer Promotion Administrative System; Total Force Manpower Management System; Reserve Automated Medical Interim System; Standard Training Administration Support System (STASS); Recruit Training Module; Defense Manpower Data Center; Defense Joint Military Pay System—Active Component; and, Defense Joint Military Pay System—Reserve Component.

Exemptions claimed for the system:

None.

[FR Doc. 05-13198 Filed 7-5-05; 8:45 am]

BILLING CODE 5001-06-P